DEPARTMENT OF THE INTERIOR

National Park Service

[NPS-WASO-NAGPRA-NPS0024163; PPWOCRADN0-PCU00RP14.R50000]

Notice of Intent To Repatriate Cultural Items: New York State Museum, Albany, NY

AGENCY: National Park Service, Interior.

ACTION: Notice.

SUMMARY: The New York State Museum, in consultation with the appropriate Indian Tribes or Native Hawaiian organizations, has determined that the cultural items listed in this notice meet the definition of sacred objects. Lineal descendants or representatives of any Indian Tribe or Native Hawaiian organization not identified in this notice that wish to claim these cultural items should submit a written request to the New York State Museum. If no additional claimants come forward, transfer of control of the cultural items to the lineal descendants, Indian Tribes, or Native Hawaiian organizations stated in this notice may proceed.

DATES: Lineal descendants or representatives of any Indian Tribe or Native Hawaiian organization not identified in this notice that wish to claim these cultural items should submit a written request with information in support of the claim to the New York State Museum at the address in this notice by December 8, 2017.

ADDRESSES: Lisa Anderson, New York State Museum, 3049 Cultural Education Center, Albany, NY 12230, telephone (518) 486-2020, email lisa.anderson@nysed.gov.

SUPPLEMENTARY INFORMATION: Notice is here given in accordance with the Native American Graves Protection and Repatriation Act (NAGPRA), 25 U.S.C. 3005, of the intent to repatriate cultural items under the control of the New York State Museum, Albany, NY, that meet the definition of sacred objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

In 1898, the New York State Museum (hereafter “Museum”) acquired three wooden medicine masks from Harriet Maxwell Converse of New York City, NY. Two of the cultural items were obtained on the Cattaraugus Reservation (E-37059, E-37623), and one was acquired at Salamanca, NY (E-37048).

In 1905, Arthur C. Parker, Museum ethnologist and archeologist, acquired two wooden medicine masks from the Cattaraugus Reservation for the Museum. Parker reported one of the masks, made of wood and rabbit skin, was used to expel the causes of venereal disease (E-36897). The other reportedly represented Ganuska, the Stone Giant, and was purchased from Nancy Cook through Mrs. A. C. Parker (E-36928).

In 1908, Arthur C. Parker obtained four wooden medicine masks for the Museum from Delos Kettle of Lawton, NY. Parker attributed three of the medicine masks to the I'dos Society (E-36864, E-36865, E-36866). A fourth medicine mask was unattributed (E-37022).

In June of 1909, Arthur C. Parker commissioned one partially carved medicine mask for the Museum to be made on the Cattaraugus Reservation (E-36917). The face was carved on the trunk of a basswood tree by a man named either Jonas or Green, with Delos Kettle in attendance.

In 1910, Arthur C. Parker acquired two cornhusk medicine masks on the Cattaraugus Reservation in New York for the Museum (E-36922A, E-36922B).

In 1933, Willard A. Gibson of Salamanca, NY, donated one cultural item to the Museum. The item is a cornhusk medicine mask that was given to him by Louis Plummer at Allegany, NY (E-37965).

In 1956, the Museum purchased two cultural items from the Logan Museum of Anthropology at Beloit College, WI. The cultural items were part of a larger collection made by Albert Green Heath. One of the cultural items is a wooden medicine mask that Heath purchased from Wilson Stevens on the Cattaraugus Reservation (E-50315). The other is a miniature cornhusk medicine mask that he obtained from Delos Big Kettle at Lawtons, NY, in 1912 (E-50312).

Traditional religious leaders of the Seneca Nation of Indians (previously listed as the Seneca Nation of New York) have identified these 15 medicine faces as being needed for the practice of traditional Native American religions by present-day adherents. Museum documentation, supported by oral evidence presented during consultation with members of the Haudenosaunee Standing Committee on Burial Rules and Regulations, indicates that these medicine faces are culturally affiliated with the Seneca Nation of Indians (previously listed as the Seneca Nation of New York).

Determinations Made by the New York State Museum

Officials of the New York State Museum have determined that:

• Pursuant to 25 U.S.C. 3001(3)(C), the 15 cultural items described above are specific ceremonial objects needed by traditional Native American religious leaders for the practice of traditional Native American religions by their present-day adherents.

• Pursuant to 25 U.S.C. 3001(2), there is a relationship of shared group identity that can be reasonably traced between the sacred objects and the Seneca Nation of Indians (previously listed as the Seneca Nation of New York).

Additional Requestors and Disposition

Lineal descendants or representatives of any Indian Tribe or Native Hawaiian organization not identified in this notice that wish to claim these cultural items should submit a written request with information in support of the claim to Lisa Anderson, New York State Museum, 3049 Cultural Education Center, Albany, NY 12230 telephone (518) 486-2020, email lisa.anderson@nysed.gov, by December 8, 2017. After that date, if no additional claimants have come forward, transfer of control of the sacred objects to the Seneca Nation of Indians (previously listed as the Seneca Nation of New York) may proceed.

The New York State Museum is responsible for notifying the Cayuga Nation; Oneida Nation (previously listed as the Oneida Tribe of Indians of Wisconsin); Oneida Nation of New York; Onondaga Nation; Saint Regis Mohawk Tribe (previously listed as the St. Regis Band of Mohawk Indians of New York); Seneca Nation of Indians (previously listed as the Seneca Nation of New York); Seneca-Cayuga Nation (previously listed as the Seneca-Cayuga Tribe of Oklahoma); Tonawanda Band of Seneca (previously listed as the Tonawanda Band of Seneca Indians of New York); and the Tuscarora Nation that this notice has been published.

Dated: September 15, 2017.
Melanie O'Brien,
Manager, National NAGPRA Program.

[FR Doc. 2017-24229 Filed 11-7-17; 8:45 am]

BILLING CODE 4312-52-P